DEPARTMENT OF EDUCATION

[Docket No.: ED-2016-ICCD-0081]

Agency Information Collection Activities; Comment Request; Program for the International Assessment of Adult Competencies (PIAAC) 2017 National Supplement

AGENCY: National Center for Education Statistics (NCES), Department of Education (ED).

ACTION: Notice.

SUMMARY: In accordance with the Paperwork Reduction Act of 1995 (44 U.S.C. chapter 3501 et seq.), ED is proposing a reinstatement of a previously approved information collection.

DATES: Interested persons are invited to submit comments on or before September 6, 2016.

ADDRESSES: To access and review all the documents related to the information collection listed in this notice, please use http://www.regulations.gov by searching the Docket ID number ED-2016-ICCD-0081. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E-347, Washington, DC 20202-4537.

FOR FURTHER INFORMATION CONTACT: For specific questions related to collection activities, please contact NCES Information Collections at NCES.Information.Collections@ed.gov.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Program for the International Assessment of Adult Competencies (PIAAC) 2017 National Supplement.

OMB Control Number: 1850-0870.

Type of Review: A reinstatement of a previously approved information collection.

Respondents/Affected Public: Individuals.

Total Estimated Number of Annual Responses: 12,626.

Total Estimated Number of Annual Burden Hours: 3,960.

Abstract: The Program for the International Assessment of Adult Competencies (PIAAC) is a cyclical, large-scale study of adult skills and life experiences focusing on education and employment, designed internationally to assess adults in different countries over a broad range of abilities, from simple reading to complex problem-solving skills, and to collect information on individuals' skill use and background. In the United States, PIAAC is conducted by the National Center for Education Statistics (NCES). PIAAC defines four core competency domains of adult cognitive skills seen as key to facilitating the social and economic participation of adults in advanced economies: Literacy, reading components, numeracy, and problem solving in technology-rich environments. PIAAC also surveys adults on their education background, work history, the skills they use on the job and at home, their civic engagement, and sense of their health and well-being. The results are used to compare participating countries on the skills capacities of their workforce-aged adults and to learn more about relationships between educational background, employment, and other outcomes. PIAAC is coordinated by the Organization for Economic Cooperation and Development (OECD) and developed by participating countries with the support of the OECD. U.S. participated in the PIAAC Main Study data collection in 2012, conducted a national supplement in 2014, and in this submission requests to conduct the PIAAC 2017 National Supplement data collection from February to September 2017 with a nationally representative sample of 3,800 adults ages 16-74, in a new sample of 80 primary sampling units (PSUs).

Dated: July 5, 2016.
Kate Mullan,
Acting Director, Information Collection Clearance Division, Office of the Chief Privacy Officer, Office of Management.

[FR Doc. 2016-16224 Filed 7-7-16; 8:45 am]

BILLING CODE 4000-01-P